INTERNATIONAL TRADE COMMISSION

[Investigation No. DR-CAFTA-103-16]

Probable Economic Effect of Modifications to DR-CAFTA Rules of Origin and Tariffs for Certain Apparel Goods

AGENCY: United States International Trade Commission.

ACTION: Expansion of scope of investigation, revised deadline for filing written submissions.

SUMMARY: Following receipt of a request on June 1, 2007, from the United States Trade Representative (USTR), the Commission has expanded the scope of its investigation No. DR-CAFTA-103-16, Probable Economic Effect of Modifications to DR-CAFTA Rules of Origin and Tariffs for Certain Apparel Goods, to include advice on the probable economic effect of an additional set of proposed modifications to the rules of origin and tariff treatment that are contained in a revised letter of understanding with Costa Rica.

DATES: June 29, 2007: Extended deadline for filing written submissions.August 30, 2007: Revised date for transmittal of Commission report to USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm

FOR FURTHER INFORMATION CONTACT: Laura Rodriguez, Office of Industries (202-205-3499; laura.rodriguez@usitc.gov). For information on legal aspects, contact William Gearhart of the Office of the General Counsel (202-205-3091; william.gearhart@usitc.gov). The media should contact Margaret O'Laughlin, Office of External Relations (202-205-1819; margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Annex to the USTR's June 1 letter identified an additional set of modifications for which advice is requested in a recently added section 6 of the Annex. The list can be viewed at http://www.usitc.gov/secretary/edis.htm. As requested, the Commission will transmit its advice to the USTR by August 30, 2007, and will issue a public version of its report shortly thereafter, with any confidential business information deleted.

The Commission's notice of institution of this investigation was published in the Federal Register of February 15, 2007 (72 FR 7455). The original deadline for the filing of written submissions was March 16, 2007, and the Commission was scheduled to transmit its advice on May 24, 2007. As indicated below, the deadline for written submissions has been extended to June 29, 2007, and those submissions should be limited to the following: (1) Information and arguments with respect to the modifications listed in section 6 of the Annex; and (2) with respect to the modifications listed in sections 1-5 of the Annex, information and arguments not available as of March 16, 2007. The Commission expects to transmit its report to the USTR by August 30, 2007. No public hearing was scheduled in the notice of investigation and none is planned in connection with the expanded scope of investigation.

Written Submissions: Persons with an interest in this matter are invited to submit written statements concerning the modifications to be addressed by the Commission in its expanded report on this investigation. Such submissions should be limited to the following: (1) information and arguments with respect to the modifications listed in section 6 of the Annex; and (2) with respect to the modifications listed in sections 1-5 of the Annex, information and arguments not available as of March 16, 2007. Submissions should be addressed to the Secretary to the Commission and should be submitted at the earliest practical date but no later than 5:15 p.m. on June 29, 2007. All written submissions must conform with section 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize the filing of submissions with the Secretary by facsimile or electronic means, except to the extent permitted by section 201.8 of the rules (see Handbook for Electronic Filing Procedures, http://www.usitc.gov/secretary/fed_reg_notices/rules/documents/handbook_on_electronic_filing.pdf). Persons with questions regarding electronic filing should contact the Secretary (202-205-2000 or http://www.usitc.gov/secretary/edis.htm).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR. The USTR has directed that the Commission, after transmitting its report, publish a public version of its report, with any confidential business information deleted. Accordingly, any confidential business information received by the Commission in this investigation and used in preparing the report will not be published in the public version of the report in a manner that would reveal the operations of the firm supplying the information.

By order of the Commission.
Issued: June 15, 2007.
Marilyn Abbott,
Secretary to the Commission.

[FR Doc. E7-11919 Filed 6-19-07; 8:45 am]

BILLING CODE 7020-02-P